DEPARTMENT OF TRANSPORTATION

Pipeline and Hazardous Materials Safety Administration

[Docket No. PHMSA-2019-0221 (Notice No. 2020-03)]

Hazardous Materials: Information Collection Activities

AGENCY: Pipeline and Hazardous Materials Safety Administration (PHMSA), DOT.

ACTION: Notice and request for comments.

SUMMARY: In accordance with the Paperwork Reduction Act of 1995, this notice announces that the Information Collection Requests (ICRs) discussed below will be forwarded to the Office of Management and Budget (OMB) for renewal and extension. These ICRs describe the nature of the information collections and their expected burdens. A Federal Register notice with a 60-day comment period soliciting comments on these ICRs was published in the Federal Register on January 16, 2020 under Docket No. PHMSA-2019-0221 (Notice No. 2019-12).

DATES: Interested persons are invited to submit comments on, or before May 14, 2020.

ADDRESSES: Written comments and recommendations for the proposed information collection should be sent within 30 days of publication of this notice to www.reginfo.gov/public/do/PRAMain. Find this particular information collection by selecting “Currently under 30-day Review—Open for Public Comments” or by using the search function.

We invite comments on: (1) Whether the proposed collection of information is necessary for the proper performance of the functions of the Department, including whether the information will have practical utility; (2) the accuracy of the Department's estimate of the burden of the proposed information collection; (3) ways to enhance the quality, utility, and clarity of the information to be collected; and (4) ways to minimize the burden of the collection of information on respondents, including the use of automated collection techniques or other forms of information technology.

Docket: For access to the Dockets to read background documents or comments received, go to http://www.regulations.gov.

FOR FURTHER INFORMATION CONTACT: Steven Andrews or Shelby Geller, Standards and Rulemaking Division, (202) 366-8553, Pipeline and Hazardous Materials Safety Administration, U.S. Department of Transportation, 1200 New Jersey Avenue SE, Washington, DC 20590-0001.

SUPPLEMENTARY INFORMATION: Section 1320.8 (d), title 5, Code of Federal Regulations (CFR) requires PHMSA to provide interested members of the public and affected agencies an opportunity to comment on information collection and recordkeeping requests. This notice identifies information collection requests that PHMSA will be submitting to the Office of Management and Budget (OMB) for renewal and extension. These information collections are contained in 49 CFR 171.6 of the Hazardous Materials Regulations (HMR; 49 CFR parts 171-180). PHMSA has revised burden estimates, where appropriate, to reflect current reporting levels or adjustments based on changes in proposed or final rules published since the information collections were last approved. The following information is provided for each information collection: (1) Title of the information collection, including former title if a change is being made; (2) OMB control number; (3) summary of the information collection activity; (4) description of affected public; (5) estimate of total annual reporting and recordkeeping burden; and (6) frequency of collection. PHMSA will request a 3-year term of approval for each information collection activity and will publish a notice in the Federal Register alerting the public upon OMB's approval.

PHMSA requests comments on the following information collections:

Title: Inspection and Testing of Portable Tanks and Intermediate Bulk Containers.

OMB Control Number: 2137-0018.

Summary: This information collection specifies provisions for documenting qualifications, inspections, tests, and approvals pertaining to the manufacture and use of portable tanks and intermediate bulk containers (IBCs) under various provisions of the HMR. It is necessary to ascertain whether portable tanks and IBCs have been qualified, inspected, and retested in accordance with the HMR. The information is used to verify that certain portable tanks and IBCs meet required performance standards prior to their being authorized for use. Additionally, it is used to document periodic requalification and testing to ensure the packagings have not deteriorated due to age or physical abuse to a degree that would render them unsafe for the transportation of hazardous materials. The following information collections and their burdens are associated with this OMB Control Number:

Information collection | Respondents | Total annual responses | Hours per response | Total annual burden hours
Design Qualification Testing for IBCs—Applications for the Certification Mark | 13 | 494 | 3 | 1,482
Periodic Design Requalification Testing of IBCs—Submission of Changes to Test Frequency to the Associate Administrator | 13 | 494 | 3 | 1,482
Applications for Approval of Equivalent Packaging—IBCs | 5 | 5 | 3 | 15
Reporting Requirements for Retest and Inspection of IBCs | 1,000 | 100,000 | 0.25 | 25,000
Recordkeeping for IBC Testing | 150 | 150 | 0.25 | 38
Manufacturers Data Report (ASME) for Portable Tanks | 50 | 50,000 | 0.25 | 12,500
Approval Applications for Specification UN Portable Tank Design | 13 | 494 | 3 | 1,482
Applications for Modifications to Portable Tank Designs | 13 | 494 | 3 | 1,482
Portable Tanks—Approval Agency Retention of Documents | 13 | 494 | 0.25 | 124
Portable Tanks—Manufacturers Retention of Documents | 50 | 50,000 | 0.25 | 12,500
Recordkeeping for the Testing of Portable Tanks | 150 | 150 | 0.25 | 38

Affected Public: Manufacturers and owners of portable tanks and intermediate bulk containers.

Annual Reporting and Recordkeeping Burden:

Number of Respondents: 1,470.

Total Annual Responses: 202,775.

Total Annual Burden Hours: 56,143.

Frequency of Collection: On occasion.

Title: Hazardous Materials Incident Reports.

OMB Control Number: 2137-0039.

Summary: This collection is applicable upon occurrence of an incident as prescribed in 49 CFR 171.15 and 171.16. A Hazardous Materials Incident Report, DOT Form F 5800.1, must be completed by a person in physical possession of a hazardous material at the time a hazardous material incident occurs in transportation, such as a release of materials, serious accident, evacuation, or closure of a main artery. Incidents meeting criteria specified in 49 CFR 171.15 also require a telephonic report. This information collection enhances the Agency's ability to evaluate the effectiveness of its regulatory program, determine the need for regulatory changes, and address emerging hazardous materials transportation safety issues. The requirements apply to all interstate and intrastate carriers engaged in the transportation of hazardous materials by rail, air, water, and highway. The following information collections and their burdens are associated with this OMB Control Number:

Information collection | Respondents | Total annual responses | Hours per response | Total annual burden hours
Telephone Notifications | 733 | 733 | 0.08 | 58
Incident Reports Paper—Written | 803 | 3,420 | 1.6 | 5,472
Incident Reports—Electronic | 803 | 16,737 | 0.8 | 13,390

Affected Public: Shippers and carriers of hazardous materials.

Annual Reporting and Recordkeeping Burden:

Number of Respondents: 2,339.

Total Annual Responses: 20,890.

Total Annual Burden Hours: 18,920.

Frequency of Collection: On occasion.

Title: Cargo Tank Motor Vehicles in Liquefied Compressed Gas Service.

OMB Control Number: 2137-0595.

Summary: These information collection and recordkeeping requirements pertain to the manufacture, certification, inspection, repair, maintenance, and operation of certain DOT specification and non-specification cargo tank motor vehicles used to transport liquefied compressed gases. These requirements are intended to ensure cargo tank motor vehicles used to transport liquefied compressed gases are operated safely, and to minimize the potential for catastrophic releases during unloading and loading operations. They include: (1) Requirements for operators of cargo tank motor vehicles in liquefied compressed gas service to develop operating procedures applicable to unloading operations and carry the operating procedures on each vehicle; (2) inspection, maintenance, marking, and testing requirements for the cargo tank discharge system, including delivery hose assemblies; and (3) requirements for emergency discharge control equipment on certain cargo tank motor vehicles transporting liquefied compressed gases that must be installed and certified by a Registered Inspector. Please note that respondents identified in this information collection may be responsible for multiple information collection activities indicated below.

The following information collections and their burdens are associated with this OMB Control Number:

Information Collection | Respondents | Total annual responses | Hours per response | Total annual burden hours
Marking New/Repaired Hoses with Unique Identifier | 6,800 | 12,172 | 0.083 | 1,010
Monthly Hose Inspections Record | 6,800 | 439,960 | 0.1 | 43,996
Record of Monthly Piping Tests Record | 6,800 | 400,112 | 0.2 | 80,022
Hose Pressure Test Marking Record | 6,800 | 12,172 | 0.083 | 1,010
Annual Hose Test Record | 6,800 | 36,652 | 0.42 | 15,393
Cargo Tanks in Other Than Metered Delivery Service—Design Certification for Automatic Shutoff | 150 | 900 | 8 | 7,200
Cargo Tanks in Other Than Metered Delivery Service—Instillation of Shutoff System by a Registered Inspector | 150 | 900 | 8 | 7,200
Cargo Tank Motor Vehicles in Metered Delivery Service—Certification of Remote Control Equipment by a Registered Inspector | 150 | 3,300 | 8 | 26,400

Affected Public: Carriers in liquefied compressed gas service, manufacturers and repairers.

Annual Reporting and Recordkeeping Burden:

Number of Respondents: 6,950.

Total Annual Responses: 906,168.

Total Annual Burden Hours: 182,231.

Frequency of Collection: On occasion.

Title: Inspection and Testing of Meter Provers.

OMB Control Number: 2137-0620.

Summary: This information collection and recordkeeping burden results from the requirements pertaining to the use, inspection, and maintenance of mechanical displacement meter provers (meter provers) used to check the accurate flow of liquid hazardous materials into bulk packagings, such as portable tanks and cargo tank motor vehicles, under the HMR. These meter provers are used to ensure that the proper amount of liquid hazardous materials is being loaded and unloaded. These meter provers consist of a gauge and several pipes that always contain small amounts of the liquid hazardous material in the pipes as residual material and, therefore, must be inspected and maintained in accordance with the HMR to ensure they are in proper calibration and working order. These meter provers are not subject to the specification testing and inspection requirements in 49 CFR part 178. However, they must be visually inspected annually and hydrostatic pressure tested every 5 years to ensure they are properly working as specified in 49 CFR 173.5a of the HMR. Therefore, this information collection requires that:

(1) Each meter prover must undergo and pass an external visual inspection annually to ensure that the meter provers used in the flow of liquid hazardous materials into bulk packagings are accurate and in conformance with the performance standards in the HMR.

(2) Each meter prover must undergo and pass a hydrostatic pressure test at least every 5 years to ensure that the meter provers used in the flow of liquid hazardous materials into bulk packagings are accurate and in conformance with the performance standards in the HMR.

(3) Each meter prover must successfully complete the test and inspection and must be marked in accordance with 49 CFR 180.415(b) and 173.5a.

(4) Each owner must retain a record of the most recent visual inspection and pressure test until the meter prover is requalified.

The following information collections and their burdens are associated with this OMB Control Number:

Information Collection | Respondents | Total annual responses | Hours per response | Total annual burden hours
Annual Visual Inspection | 250 | 250 | 0.5 | 125
Hydrostatic Pressure Test (Every 5 Years) | 250 | 250 | 0.2 | 50

Affected Public: Owners of meter provers used to measure liquid hazardous materials flow into bulk packagings such as cargo tanks and portable tanks.

Annual Reporting and Recordkeeping Burden:

Number of Respondents: 250.

Total Annual Responses: 500.

Total Annual Burden Hours: 175.

Frequency of Collection: On occasion.

Issued in Washington, DC, on April 9, 2020.
William S. Schoonover,
Associate Administrator of Hazardous Materials Safety, Pipeline and Hazardous Materials Safety Administration.

[FR Doc. 2020-07803 Filed 4-13-20; 8:45 am]

BILLING CODE 4910-60-P